DEPARTMENT OF HEALTH AND HUMAN SERVICES

Centers for Disease Control and Prevention

[Program Announcement 00078]

National Conference of State Legislatures; Notice of Availability of Funds

A notice announcing the availability of Fiscal Year 2000 funds for a grant program with the National Conference of State Legislatures was published in the Federal Register on May 23, 2000 [Vol. 65 FR No. 100, pages 33327-33329] [FR Doc. 00-12882]. The notice is hereby rescinded in its entirety, due to the availability of new information. It appears that there may be other eligible applicants. Due to time constraints to award FY 2000 fund, funds will not be awarded under Program 00078. We anticipate that a new Program Announcement may be published in the Federal Register in FY2001, if funds are available.

Dated: August 14, 2000.
John L. Williams,
Director, Procurement and Grants Office, Centers for Disease Control And Prevention. (CDC)

[FR Doc. 00-21050 Filed 8-17-00; 8:45 am]

BILLING CODE 4163-18-P